SUSQUEHANNA RIVER BASIN COMMISSION

Actions Taken at June 23, 2011, Meeting

AGENCY: Susquehanna River Basin Commission.

ACTION: Notice.

SUMMARY: As part of its regular business meeting held on June 23, 2011, in North East, Maryland, the Commission convened a public hearing, at which it took the following actions: (1) Approved settlement involving one water resources project; (2) approved and tabled the applications of certain water resources projects, including six involving diversions of water into the Susquehanna River Basin; (3) rescinded approval for two water resources projects; (4) denied an administrative appeal by Allegheny Defense Project on three diversions into the Susquehanna River Basin from the Ohio River Basin approved by the Commission at its March 2011 meeting; (5) amended its Regulatory Program Fee Schedule to take effect on July 1, 2011; and (6) amended its comprehensive plan.

DATES: June 23, 2011.

ADDRESSES: Susquehanna River Basin Commission, 1721 N. Front Street, Harrisburg, PA 17102-2391.

FOR FURTHER INFORMATION CONTACT: Richard A. Cairo, General Counsel, telephone: (717) 238-0423, ext. 306; fax: (717) 238-2436; e-mail: rcairo@srbc.net; or Stephanie L. Richardson, Secretary to the Commission, telephone: (717) 238-0423, ext. 304; fax: (717) 238-2436; e-mail: srichardson@srbc.net. Regular mail inquiries may be sent to the above address. See also Commission Web site at http://www.srbc.net.

SUPPLEMENTARY INFORMATION: In addition to the public hearing and its related actions on projects identified in the summary above and the listings below, the following items were also presented or acted on at the business meeting: (1) Adoption of the proposed Water Resources Program for FY 2012-2013 and an accompanying presentation on the Commission's Chesapeake Bay related activities; (2) a report on hydrologic conditions in the basin; (3) approval of proposed rulemaking to revise the Commission's project review regulations, including the establishment of an August 23, 2011, comment period and the scheduling of public hearings in Harrisburg, Pennsylvania and Binghamton, New York; (4) a preliminary introduction to dockets; (5) a presentation on a pooled assets concept by PPL, Inc.; (6) a report on acquisition of a new SRBC headquarters facility; (7) adoption of a FY-2013 budget commencing July 1, 2012; (8) support of additional FY-2012 funding of U.S. Geological Survey's National Streamflow Information Program; (9) election of the member representing the Commonwealth of Pennsylvania as the new Chair and the member representing the State of Maryland as the new Vice Chair of the Commission to serve in the next fiscal year; and (10) ratification/approval of grants/contracts. The Commission heard counsel's report on legal matters affecting the Commission. The Commission also convened a public hearing and took the following actions:

Public Hearing—Compliance Matter

The Commission approved a settlement in lieu of civil penalties for the following project:

1. Nature's Way Purewater Systems, Inc.; Pittston Facility; Pittston Township, Luzerne County, Pa.—$15,000.

Public Hearing—Rescissions of Project Approvals

1. Project Sponsor and Facility: Anadarko E&P Company LP (West Branch Susquehanna River-2) (Docket No. 20090306), Renovo Borough, Clinton County, Pa.

2. Project Sponsor and Facility: Pennsylvania Food Group, LLC (Docket No. 20030411), West Donegal Township, Lancaster County, Pa.

Public Hearing—Projects Approved

1. Project Sponsor and Facility: Anadarko E&P Company LP (Pine Creek—Jersey Mills), McHenry Township, Lycoming County, Pa. Surface water withdrawal of up to 1.500 mgd.

2. Project Sponsor: Aqua Pennsylvania, Inc. Project Facility: Monroe Manor Water System, Monroe Township, Snyder County, Pa. Groundwater withdrawal of up to 0.302 mgd from Well 7.

3. Project Sponsor and Facility: Carrizo Marcellus, LLC (Meshoppen Creek), Washington Township, Wyoming County, Pa. Surface water withdrawal of up to 2.160 mgd.

4. Project Sponsor and Facility: Carrizo Marcellus, LLC (Middle Branch Wyalusing Creek), Forest Lake Township, Susquehanna County, Pa. Surface water withdrawal of up to 0.432 mgd.

5. Project Sponsor and Facility: Carrizo Marcellus, LLC (Unnamed Tributary of Middle Branch Wyalusing Creek), Forest Lake Township, Susquehanna County, Pa. Surface water withdrawal of up to 0.720 mgd.

6. Project Sponsor and Facility: Chesapeake Appalachia, LLC (Wappasening Creek), Windham Township, Bradford County, Pa. Surface water withdrawal of up to 0.900 mgd.

7. Project Sponsor and Facility: Chesapeake Appalachia, LLC (Wyalusing Creek), Rush Township, Susquehanna County, Pa. Surface water withdrawal of up to 0.715 mgd, subject to rescission of Docket Nos. 20081227 and 20090610.

8. Project Sponsor and Facility: Chesapeake Appalachia, LLC (Wysox Creek), Rome Township, Bradford County, Pa. Surface water withdrawal of up to 0.504 mgd.

9. Project Sponsor: Exelon Generation Company, LLC. Project Facility: Peach Bottom Atomic Power Station, Peach Bottom Township, York County, Pa. Modification to increase consumptive water use from 32.490 mgd up to 49.000 mgd (Docket No. 20061209).

10. Project Sponsor: Exelon Generation Company, LLC. Project Facility: Three Mile Island Generating Station, Londonderry Township, Dauphin County, Pa. Surface water withdrawal of up to 122.800 mgd and consumptive water use of up to 19.200 mgd.

11. Project Sponsor and Facility: Fox Road Waterworks, LLC (South Branch Tunkhannock Creek), Tunkhannock Township, Wyoming County, Pa. Surface water withdrawal of up to 0.157 mgd.

12. Project Sponsor and Facility: Hydro Recovery, LP, Blossburg Borough, Tioga County, Pa. Groundwater withdrawal of up to 0.216 mgd from Well HR-1 and consumptive water use of up to 0.316 mgd from Well HR-1 and public water supply.

13. Project Sponsor and Facility: Keystone Clearwater Solutions, LLC (Driftwood Branch Sinnemahoning Creek), Emporium Borough, Cameron County, Pa. Surface water withdrawal of up to 0.999 mgd.

14. Project Sponsor and Facility: Keystone Clearwater Solutions, LLC (Lycoming Creek), Lewis Township, Lycoming County, Pa. Surface water withdrawal of up to 1.292 mgd.

15. Project Sponsor and Facility: LHP Management, LLC (Fishing Creek—Clinton Country Club), Bald Eagle Township, Clinton County, Pa. Modification to conditions of the withdrawal approval (Docket No. 20090906).

16. Project Sponsor and Facility: Mount Joy Borough Authority, Mount Joy Borough, Lancaster County, Pa. Groundwater withdrawals of up to 1.227 mgd from Well 1 and 1.165 mgd from Well 2.

17. Project Sponsor and Facility: Nature's Way Purewater Systems, Inc., Dupont Borough, Luzerne County, Pa. Groundwater withdrawal of up to 0.057 mgd from Covington Springs Borehole 1 (BH-1) and consumptive water use of up to 0.257 mgd from BH-1 and public water supply.

18. Project Sponsor: New Morgan Landfill Company, Inc. Project Facility: Conestoga Landfill, New Morgan Borough, Berks County, Pa. Groundwater withdrawal of up to 0.008 mgd from Well SW-3.

19. Project Sponsor and Facility: Seneca Resources Corporation (Genesee Forks), Pike Township, Potter County, Pa. Surface water withdrawal of up to 0.500 mgd.

20. Project Sponsor and Facility: Talisman Energy USA Inc. (Wappasening Creek), Windham Township, Bradford County, Pa. Surface water withdrawal of up to 1.000 mgd.

21. Project Sponsor and Facility: Tennessee Gas Pipeline Company (Meshoppen Creek—Loop 319), Springville Township, Susquehanna County, Pa. Surface water withdrawal of up to 1.090 mgd.

22. Project Sponsor and Facility: Tennessee Gas Pipeline Company (Susquehanna River—Loop 317), Asylum Township, Bradford County, Pa. Surface water withdrawal of up to 4.032 mgd.

23. Project Sponsor and Facility: Tennessee Gas Pipeline Company (Tioga River—Loop 315), Richmond Township, Tioga County, Pa. Surface water withdrawal of up to 3.140 mgd.

24. Project Sponsor and Facility: Tennessee Gas Pipeline Company (Unnamed Tributary of North Elk Run), Richmond Township, Tioga County, Pa. Surface water withdrawal of up to 0.144 mgd.

25. Project Sponsor and Facility: Tennessee Gas Pipeline Company (Towanda Creek—Loop 317), Monroe Township, Bradford County, Pa. Surface water withdrawal of up to 4.032 mgd.

26. Project Sponsor and Facility: Tennessee Gas Pipeline Company (White Creek—Loop 319), Springville Township, Susquehanna County, Pa. Surface water withdrawal of up to 0.384 mgd.

27. Project Sponsor and Facility: Williamsport Municipal Water Authority, Williamsport City, Lycoming County, Pa. Groundwater withdrawals of up to 1.300 mgd from Well 10 and 0.700 mgd from Well 11.

Public Hearing—Projects Approved Involving a Diversion

1. Project Sponsor: Chief Oil & Gas LLC. Project Facility: Borough of Ebensburg, Cambria Township, Cambria County, Pa. Into-basin diversion of up to 0.249 mgd from the Ohio River Basin.

2. Project Sponsor: Chief Oil & Gas LLC. Project Facility: Cambria Somerset Authority, Summerhill Township, Cambria County, Pa. Into-basin diversion of up to 0.249 mgd from the Ohio River Basin.

3. Project Sponsor: Chief Oil & Gas LLC. Project Facility: Highland Sewer and Water Authority, Portage Township, Cambria County, Pa. Into-basin diversion of up to 0.249 mgd from the Ohio River Basin.

4. Project Sponsor: Nature's Way Purewater Systems, Inc. Project Facility: Nature's Way Springs Borehole 1 (BH-1), Foster Township, Luzerne County, Pa. Into-basin diversion of up to 0.099 mgd from the Delaware River Basin.

5. Project Sponsor: Penn Virginia Oil & Gas Corporation. Project Facility: Port Allegany Borough, McKean County, Pa. Into-basin diversion of up to 0.100 mgd from the Ohio River Basin.

6. Project Sponsor: Triana Energy, LLC. Project Facility: Johnson Quarry, Roulette Township, Potter County, Pa. Into-basin diversion of up to 0.500 mgd from the Ohio River Basin.

Public Hearing—Projects Tabled

1. Project Sponsor and Facility: Dunn Lake LLC (Dunn Lake), Ararat Township, Susquehanna County, Pa. Application for surface water withdrawal of up to 0.999 mgd.

2. Project Sponsor and Facility: Keystone Clearwater Solutions, LLC (Babb Creek), Morris Township, Tioga County, Pa. Application for surface water withdrawal of up to 0.950 mgd.

3. Project Sponsor: SWEPI, LP. Project Facility: Pennsylvania American Water Company—Warren District, Warren City, Warren County, Pa. Application for an into-basin diversion of up to 3.000 mgd from the Ohio River Basin.

Public Hearing—Projects Withdrawn

1. Project Sponsor and Facility: Anadarko E&P Company LP (West Branch Susquehanna River-4), Burnside Township, Centre County, Pa. Application for surface water withdrawal of up to 0.720 mgd.

2. Project Sponsor and Facility: Anadarko E&P Company LP (Wolf Run), Snow Shoe Township, Centre County, Pa. Application for surface water withdrawal of up to 0.499 mgd.

Public Hearing—Administrative Appeal

The Commission denied an administrative appeal by the Allegheny Defense Project of the March 10, 2011, Commission action approving the following projects:

1. Docket No. 20110316. Project Sponsor: Pennsylvania General Energy Company, L.L.C. Project Facility: Scaffold Lick Pond—1, Liberty Township, McKean County, Pa., authorizing an existing into-basin diversion of up to 0.500 mgd from the Ohio River Basin.

2. Docket No. 20110317. Project Sponsor: Pennsylvania General Energy Company, L.L.C. Project Facility: Scaffold Lick Pond—2, Liberty Township, McKean County, Pa., authorizing an existing into-basin diversion of up to 0.500 mgd from the Ohio River Basin.

3. Docket No. 20110318. Project Sponsor: Ultra Resources, Inc. Project Facility: Wayne Gravel Products, Ceres Township, McKean County, Pa., authorizing an existing into-basin diversion of up to 1.170 mgd from the Ohio River Basin.

Public Hearing—Amendments to Regulatory Program Fee Schedule

The Commission approved amendments to its Regulatory Program Fee Schedule intended to help defray the cost of its Regulatory Program for water resource projects as well as to establish a special rate for multiple transfer of approvals in a single transaction and to make clarifications regarding the application of compliance monitoring fees to administratively approved projects, refunds on withdrawn or terminated applications, and the interest rate on installment payments. The amended fee schedule, which can be accessed at the Commission's web site www.srbc.net, became effective on July 1, 2011.

Public Hearing—Comprehensive Plan Amendments

The Commission amended its comprehensive plan to include the newly adopted Water Resources Program (FY 2012/2013), the Migratory Fish Management and Restoration Plan for the Susquehanna River Basin, and all projects approved by the Commission since the last revision of the Comprehensive Plan.

Authority: Pub. L. 91-575, 84 Stat. 1509 et seq., 18 CFR parts 806, 807, and 808.

Dated: July 6, 2011.
Thomas W. Beauduy,
Deputy Executive Director.

[FR Doc. 2011-17922 Filed 7-14-11; 8:45 am]

BILLING CODE 7040-01-P